DEPARTMENT OF HOMELAND SECURITY

Federal Emergency Management Agency

[Docket ID FEMA-2011-0009]

Agency Information Collection Activities: Proposed Collection; Comment Request, 1660-0039; FEMA Form 078-0-2A, National Fire Academy (NFA) Long-Term Evaluation Student/Trainee; FEMA Form 078-0-2, NFA Long-Term Evaluation Supervisors

AGENCY: Federal Emergency Management Agency, DHS.

ACTION: Notice; 60-day notice and request for comments; extension, without change, of a currently approved information collection; OMB No. 1660-0039; FEMA Form 078-0-2A (Presently FEMA Form 95-59), NFA Long-Term Evaluation Student/Trainee; FEMA Form 078-0-2 (Presently FEMA Form 95-58), NFA Long-Term Evaluation Supervisors.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the long-term evaluation forms used to evaluate all NFA resident training.

DATES: Comments must be submitted on or before May 9, 2011.

ADDRESSES: To avoid duplicate submissions to the docket, please use only one of the following means to submit comments:

(1) Online. Submit comments at http://www.regulations.gov under Docket ID FEMA-2011-0009. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0009 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Laura Chevalier, Program Analyst, U.S. Fire Administration, 301-447-1614, for additional information. You may contact the Records Management Division for copies of the proposed collection of information at facsimile number (202) 646-3347 or e-mail address: FEMA-Information-Collections-Management@dhs.gov.

SUPPLEMENTARY INFORMATION: The NFA is mandated under the Fire Prevention and Control Act of 1974 (Pub. L. 93-498) to provide training and education to the Nation's fire service and emergency service personnel. The state-of-the-art programs offered by the NFA serve as models of excellence and state and local fire service agencies rely heavily on the curriculum to train their personnel. To maintain the quality of these training programs, it is critical that courses be evaluated after students have had the opportunity to apply the knowledge and skills gained from their training.

Collection of Information

Title: National Fire Academy Long-term Evaluation Form for Supervisors and National Fire Academy Long-term Evaluation Form for Students/Trainees.

Type of Information Collection: Extension, without change, of a currently approved information collection.

OMB Number: OMB No. 1660-0039.

Form Titles and Numbers: FEMA Form 078-0-2A, NFA Long-Term Evaluation Student/Trainee; FEMA Form 078-0-2, NFA Long-Term Evaluation Supervisors.

Abstract: The National Fire Academy Long-Term Evaluation Form will be used to evaluate all National Fire Academy (NFA) on-campus resident training courses. Course graduates and their supervisors will be asked to evaluate the impact of the training on both individual job performance and the fire and emergency response department/community where the student works. The data provided by students and supervisors is used to update existing NFA course materials and to develop new courses that reflect the emerging issues/needs of the Nation's fire service.

Affected Public: State, local or Tribal Government.

Estimated Total Annual Burden Hours: 697.5 burden hours.

Annual Hour Burden
Data collection activity/instrument | No. of respondents | Frequency of responses | Hour burden per response | Annual responses | Total annual burden hours
NFA Long Term Evaluation Students/Trainees/FEMA Form 078-0-2A (Formerly FEMA Form 95-59) | 2,250 | 1 | .2 | 2,250 | 450
NFA Long Term Evaluation Supervisors/FEMA Form 078-0-2 (Formerly FEMA Form 95-58) | 2,250 | 1 | .11 | 2,250 | 247.5
Total | 4,500 |  |  | 4,500 | 697.5

Estimated Cost: There are no annual start-up or capital costs.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 3, 2011.
Lesia M. Banks,
Director, Records Management Division, Mission Support Bureau, Federal Emergency Management Agency, Department of Homeland Security.

[FR Doc. 2011-5418 Filed 3-9-11; 8:45 am]

BILLING CODE 9110-45-P